FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 9, 2010.

A. Federal Reserve Bank of Dallas (E. Ann Worthy, Vice President) 2200 North Pearl Street, Dallas, Texas 75201-2272:

1. Richard Earl Williams, Jr., Cameron, Texas, individually and as Trustee of the Richard E. Williams Exempt Trust; Debora Evans, Belton, Texas, individually and as Trustee of the Debora Evans Exempt Trust; Richard Earl Williams, Jr. and Debora Evans as co-Trustees of (i) the Williams Family Exempt Trust, (ii) the Victoria Grace Williams Special Trust, (iii) the Thomas Joseph Evans 2002 Trust and (iv) the Elizabeth Ashton Williams 2002 Trust, all of Cameron, Texas; and Richard E. Williams, Jr., Debora Evans and the above named trusts, collectively (the “Williams Family Group”), to retain voting shares of Cameron Financial Corporation and thereby indirectly retain voting shares of Classic Bank, N.A., both of Cameron, Texas.

Board of Governors of the Federal Reserve System, June 21, 2010.
Robert deV. Frierson,
Deputy Secretary of the Board.

[FR Doc. 2010-15283 Filed 6-23-10; 8:45 am]

BILLING CODE 6210-01-S